DEPARTMENT OF EDUCATION

Office of Special Education and Rehabilitative Services; Overview Information; Personnel Development to Improve Services and Results for Children with Disabilities—National Center to Enhance the Professional Development of School Personnel Who Share Responsibility for Improving Results for Children With Disabilities (National Professional Development Enhancement Center); Notice Inviting Applications for New Awards for Fiscal Year (FY) 2006

Catalog of Federal Domestic Assistance (CFDA) Number: 84.325F.

Dates: Applications Available: June 19, 2006.

Deadline for Transmittal of Applications: July 19, 2006.

Deadline for Intergovernmental Review: September 18, 2006.

Eligible Applicants: Institutions of higher education (IHEs).

Estimated Available Funds: $1,350,000.

Maximum Award: We will reject any application that proposes a budget exceeding $1,350,000 for a single budget period of 12 months. The Assistant Secretary for Special Education and Rehabilitative Services may change the maximum amount through a notice published in the Federal Register.

Number of Awards: 1.

Note: The Department is not bound by any estimates in this notice.

Project Period: Up to 60 months.

Full Text of Announcement

I. Funding Opportunity Description

Purpose of Program: The purposes of this program are to (1) help address State-identified needs for highly qualified personnel—in special education, related services, early intervention, and regular education—to work with infants or toddlers with disabilities, or children with disabilities; and (2) ensure that those personnel have the skills and knowledge—derived from practices that have been determined through research and experience to be successful—that are needed to serve those children.

Priority: In accordance with 34 CFR 75.105(b)(2)(v), this priority is from allowable activities specified in the statute (see sections 662(d) and 681(d) of the Individuals with Disabilities Education Act (IDEA)).

Absolute Priority: For FY 2006 this priority is an absolute priority. Under 34 CFR 75.105(c)(3), we consider only applications that meet this priority.

This priority is: National Center to Enhance the Professional Development of School Personnel Who Share Responsibility for Improving Results for Children with Disabilities.

Background

Enacted in 1975, the Education for All Handicapped Children Act mandated the right to a free, appropriate education in the least restrictive environment for students with disabilities, and subsequent policy and legislative action have reinforced this mandate. In 1986, the Department launched the Regular Education Initiative, which was called for general and special education teachers to collaborate and share responsibility for educating students with disabilities in classrooms alongside their peers without disabilities. The 1997 reauthorization of IDEA required access to the general education curriculum for students with disabilities. The No Child Left Behind Act of 2001 (NCLB) and IDEA, as amended by the Individuals with Disabilities Education Improvement Act of 2004, are closely aligned to promote the delivery of instructional content by highly qualified teachers and increased accountability for students' academic achievement by requiring schools to include students with disabilities in their measures of adequate yearly progress (AYP).

Despite this history of policies promoting the inclusion of students with disabilities in the general education environment, according to the National Center for Education Statistics (NCES, 2000), 67 percent of public school teachers reported that they did not feel very well prepared to address the needs of students with disabilities in their classrooms. For example, during the 2004-2005 academic year, according to the Study of State and Local Implementation of the Individuals with Disabilities Education Act (SLIIDEA), school principals reported that general education teachers were generally much less prepared than special educators to use accommodations in instruction and assessment to improve the academic performance of students with individualized education programs (IEPs). The promise of NCLB and IDEA to ensure that students with disabilities have IEPs to promote their access to and participation and progress in the general education curriculum in the least restrictive environment can only be realized if schools are staffed with highly qualified personnel. These personnel should be able to provide content-rich, standards-based curriculum and make any needed accommodations, modifications, and adaptations for curriculum, instruction, and assessment.

In 2001, the Department's Office of Special Education Programs (OSEP) funded a five year Faculty Enhancement Center to ensure that future administrators, general education teachers, school counselors, and school nurses would be prepared to meet the demands of their respective roles and responsibilities in providing effective services to children with disabilities. This Faculty Enhancement Center developed and disseminated training modules and supporting materials for use by faculty and students in IHEs in discipline specific pre-service training programs, and these modules and materials have been incorporated into the curricular and instructional offerings of college and university pre-service programs across the country. There has been and continues to be, however, an enormous demand for high caliber and content rich pre-service training and ongoing professional development modules and materials to produce highly qualified teachers and school personnel. Therefore, OSEP is establishing a priority for a National Center to Enhance the Professional Development of School Personnel Who Share Responsibility for Improving Results for Children with Disabilities to address the critical need for highly qualified teachers and school personnel.

Priority: This priority supports a National Center to Enhance the Professional Development of School Personnel Who Share Responsibility for Improving Results for Children with Disabilities (Center). The purposes of this Center are to ensure that: (a) Pre-service training and ongoing professional development programs for general and special education personnel have ready access to content-rich and high-caliber instructional modules, materials and resources; (b) these programs help prepare highly qualified teachers and school personnel so that local education agencies and schools have the capacity to implement school improvement programs to close achievement gaps and reach student performance goals of NCLB, especially for students with disabilities; and (c) as a result of the training and professional development made available through these programs, students with disabilities have IEPs that promote access to and greater participation and progress in the general education curriculum in the least restrictive environment with supplementary services and supports.

To meet this priority, the Center must—

(a) Identify needs and existing resources: Identify challenges, needs, and existing resources concerning the preparation and retention of highly qualified teachers and school personnel through a comprehensive review of: (1) Current policy, scientifically based research, and evidence-based practice literature on teaching and learning to provide a foundation for subject content and teaching methods modules; (2) current efforts funded by the Department that are related to professional development, personnel and teacher preparation and technical assistance (e.g., efforts by the National Comprehensive Center for Teacher Quality, the Center for Improving Teacher Quality, and the National Center for Special Education Personnel and Related Service Providers); and (3) the results of the focus group interviews conducted by the Center in accordance with paragraph (b) of this priority;

(b) Conduct focus group interviews. Conduct focus group interviews with key stakeholders (e.g., State and local educational agency personnel, IHE faculty involved with pre-service preparation, students, teachers, parents of students with disabilities, and members of professional organizations). These interviews must be designed to generate information about: (i) The knowledge and skills that personnel need to ensure that students with disabilities have access to and participate and progress in the general education curriculum in the least restrictive environment, and (ii) the preparation of highly qualified teachers and school personnel who have the knowledge and skills required to implement school improvement programs that close achievement gaps and enable schools to reach State adequate yearly progress requirements under NCLB, especially for students with disabilities. Interviews must include, but are not limited to, questions regarding the use and effect of: (1) Evidence-based instructional practices in reading, math and science; (2) standards-based curriculum; (3) student progress-monitoring; (4) related services and supports; (5) early intervening services that improve student outcomes and reduce the disproportionality and overrepresentation of culturally and linguistically diverse students in special education; (6) testing accommodations and alternate assessments; (7) postsecondary and transition services; and (8) positive behavioral interventions and supports;

(c) Develop pre-service training and professional development modules: Develop content-rich pre-service training, professional development modules and related materials to address the critical challenges and needs identified in paragraph (a) of this priority. These modules and materials must be based on adult-learning principles and be designed for ease of integration into existing curricula and practicums for pre-service personnel preparation at IHEs and into ongoing professional development programs for practicing personnel. These modules and materials must provide instructional content on—use of evidence-based instructional practices, standards-based curriculum, student progress-monitoring, and data to inform decision-making; collaborative problem solving with colleagues; provision of related services and supports, testing accommodations and alternative assessments; and development of IEPs to ensure students with disabilities have access to and participate and progress in the general education curriculum in the least restrictive environment.

Modules and materials must be developed in collaboration with content experts, through sub-contractual or consultative arrangements with the Center, to ensure that the module content is evidence-based, current, and reflects best and promising practices. Each proposed content expert and module topic must be chosen in collaboration with, and approved by, OSEP prior to the initiation of any development activity;

(d) Disseminate pre-service training and professional development modules and provide targeted technical assistance: Develop and implement mechanisms that will result in effective and efficient large-scale dissemination and use of the pre-service training and professional development modules developed in accordance with paragraph (c) of this priority. The Center must make all modules and supporting materials available on a dedicated Web site that is easily searchable by topic and is available for use to the general public at no cost. The Center must develop a dissemination partnership with at least one textbook publisher that includes in its products and services references or other links to the modules, materials and resources developed by the Center (without cost to the Center or additional costs to the consumer). The mechanisms developed by the Center must provide for targeted dissemination of the modules and materials to, and for use of these modules and materials by: (1) Pre-service training programs in IHEs, including those that do not have a special education department; (2) pre-service training programs whose graduates historically have assumed positions in urban or rural schools that have a critical need for highly qualified teachers and school personnel; (3) professional development service providers working in schools with high rates of personnel attrition and where effective professional development opportunities may lead to improved staff retention; (4) schools where student sub-groups, especially students with disabilities, have not met State AYP requirements; and (5) States that are creating a high, objective, uniform State standard of evaluation (HOUSSE) to ensure that experienced and new teachers are highly qualified. The Center also must develop efficient, effective strategies to provide technical assistance and supports to assist IHE faculty and professional development service providers in the use of the modules and other materials developed by the Center;

(e) Conduct a comprehensive project evaluation: Design and conduct a comprehensive evaluation of the work, accomplishments, outcomes, impact, and effectiveness of the Center. This evaluation must be designed to provide formative information that will guide ongoing refinements to the Center's structure, activities, workflow, and products to improve the ultimate impact and effectiveness of the Center. This comprehensive evaluation also must measure the impact of the Center in ensuring that: (1) Pre-service training and ongoing professional development programs for general and special education personnel have ready access to content-rich and high-caliber modules, materials and resources; (2) recipients of the pre-service training and ongoing professional development are equipped to meet the highly qualified requirements in their State; and (3) as a result of this training and professional development, students with disabilities have IEPs that promote access to and greater participation and progress in the general education curriculum in the least restrictive environment with supplementary services and supports; and

(f) Establish an advisory board: Establish, in concert with its OSEP Project Officer, an advisory board to guide the design and implementation of the Center's required activities. The advisory board must be composed of State and local educational agency personnel, IHE faculty involved with pre-service preparation, students, teachers, parents of students with disabilities, members of professional organizations, OSEP State Improvement Grant or State Professional Development Grant project directors, Department-funded technical assistance providers, and Department-funded higher education project directors, as appropriate.

Fourth and Fifth Years of the Project

In deciding whether to continue funding the Center for the fourth and fifth years, the Secretary will consider the requirements of 34 CFR 75.253(a), and in addition—

(a) The recommendation of a review team consisting of experts selected by the Secretary, which review will be conducted during the last half of the project's second year in Washington, DC. Projects must budget for travel expenses associated with this one-day intensive review;

(b) The timeliness and effectiveness with which all requirements of the negotiated cooperative agreement have been or are being met by the Center; and

(c) The degree to which the project's design and methodology demonstrate the potential for advancing significant new knowledge.

Waiver of Proposed Rulemaking: Under the Administrative Procedure Act (APA) (5 U.S.C. 553) the Department generally offers interested parties the opportunity to comment on a proposed priority. However, section 681(d) of IDEA makes the public comment requirements of the APA inapplicable to the priority in this notice.

Program Authority: 20 U.S.C. 1462 and 1481(d).

Applicable Regulations: The Education Department General Administrative Regulations (EDGAR) in 34 CFR parts 74, 75, 77, 79, 80, 81, 82, 84, 85, 86, 97, 98, and 99.

II. Award Information

Type of Award: Cooperative agreement.

Estimated Available Funds: $1,350,000.

Maximum Award: We will reject any application that proposes a budget exceeding $1,350,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: IHEs.

2. Cost Sharing or Matching: This competition does not involve cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.325F.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times: Applications Available: June 19, 2006.

Deadline for Transmittal of Applications: July 19, 2006.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Deadline for Intergovernmental Review: September 18, 2006.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications. We have been accepting applications electronically through the Department's e-Application system since FY 2000. In order to expand on those efforts and comply with the President's Management Agenda, we are continuing to participate as a partner in the new government wide Grants.gov Apply site in FY 2006. The National Professional Development Enhancement Center competition—CFDA number 84.325F is one of the competitions included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for the National Professional Development Enhancement Center competition—CFDA number 84.325F at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text) or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: (CFDA Number 84.325F), 400 Maryland Avenue, SW., Washington, DC 20202-4260,

or

By mail through a commercial carrier: U.S. Department of Education, Application Control Center—Stop 4260, Attention: (CFDA Number 84.325F), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.325F), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this competition are from 34 CFR 75.210 and are listed in the application package.

2. Treating A Priority As Two Separate Competitions: In the past, there have been problems in finding peer reviewers without conflicts of interest for competitions in which many entities throughout the country submit applications. The Standing Panel requirements under IDEA also have placed additional constraints on the availability of reviewers. Therefore, the Department has determined that, for some discretionary competitions, applications may be separated into two or more groups and ranked and selected for funding within the specific group. This procedure will ensure the availability of a much larger group of reviewers without conflicts of interest. It also will increase the quality, independence and fairness of the review process and permit panel members to review applications under discretionary competitions for which they have also submitted applications. However, if the Department decides to select for funding an equal number of applications in each group, this may result in different cut-off points for fundable applications in each group.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act of 1993 (GPRA), the Department has developed measures that will yield information on various aspects of the technical assistance and dissemination activities currently being supported under IDEA Part D. These measures will be used for the National Center to Enhance the Professional Development of School Personnel who Share Responsibility for Improving Results for Children with Disabilities competition, and they focus on: The extent to which projects provide high quality products and services, the relevance of project products and services to educational and early intervention policy and practice, and the use of products and services to improve educational and early intervention policy and practice.

We will notify grantees if they will be required to provide any information related to these measures.

Grantees will also be required to report information on their projects' performance in annual reports to the Department (34 CFR 75.590).

VII. Agency Contact

FOR FURTHER INFORMATION CONTACT: Anne Smith, U.S. Department of Education, 400 Maryland Avenue, SW., room 4086, Potomac Center Plaza, Washington, DC 20202-2600. Telephone: (202) 245-7529.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 14, 2006.
John H. Hager,
Assistant Secretary for Special Education and Rehabilitative Services.

[FR Doc. E6-9597 Filed 6-16-06; 8:45 am]

BILLING CODE 4000-01-P